DEPARTMENT OF DEFENSE

Office of the Secretary

[Docket ID: DOD-2018-OS-0003]

Proposed Collection; Comment Request

AGENCY: Defense Manpower Data Center, DoD.

ACTION: 60-Day information collection notice.

SUMMARY: In compliance with the Paperwork Reduction Act of 1995, the Defense Manpower Data Center announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 6, 2018.

ADDRESSES: You may submit comments, identified by docket number and title, by any of the following methods:

• Federal eRulemaking Portal: http://www.regulations.gov. Follow the instructions for submitting comments.

• Mail: Department of Defense, Office of the Chief Management Officer, Directorate for Oversight and Compliance, Regulatory and Advisory Committee Division, 4800 Mark Center Drive, Mailbox #24, Suite 08D09B, Alexandria, VA 22350-1700.

Instructions: All submissions received must include the agency name, docket number and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Manpower Data Center (DMDC), DoD Center Monterey Bay, DBIDS, ATTN: David Schwab, Seaside, CA 93955, or call DMDC, DBIDS, at 831-583-2500.

SUPPLEMENTARY INFORMATION:

Title; Associated Form; and OMB Number: Defense Biometrics Identification System; DBIDS Registration Application; OMB Control Number 0704-0455.

Needs and Uses: The information collection requirement is necessary to obtain and record the biographic & biometric data connected with positively identifying identity, eligibility for access, and fitness within DBIDS and shared with IMESA/IOLS. The form data is used in the determination of access at DBIDS sites and affiliated systems through use of IMESA/IolS.

Affected Public: The primary public entity are individuals with secondary entities being: The Federal Government, Business or other for profits, Not-For-Profit Institutions, and State, Local or Tribal Government seeking access to Controlled Federal Government locations.

Annual Burden Hours: 291,667.

Number of Respondents: 2,500,000.

Responses per Respondent: 1.

Annual Responses: 2,500,000.

Average Burden per Response: 7 minutes.

Frequency: On occasion.

Respondents are those persons requiring access to DOD Installations who do not meet requirements to possess a DOD identification card. Their data is collected pursuant to DoD force protection measures and base security policy. Persons possessing a valid DOD identification card have their data automatically provided through system to system interfaces and are not considered burdened.

Dated: January 31, 2018.
Aaron Siegel,
Alternate OSD Federal Register Liaison Officer, Department of Defense.

[FR Doc. 2018-02213 Filed 2-2-18; 8:45 am]

BILLING CODE 5001-06-P